DEPARTMENT OF JUSTICE

Notice of Lodging of a Consent Decree Under the the Clean Water Act

Notice is hereby given that on September 17, 2009, a proposed Consent Decree in United States and State of Indiana v. City of Jeffersonville, Indiana, Civil Action No. 09-cv-0125 was lodged with the United States District Court for the Southern District of Indiana.

In this action the United States and the State of Indiana seek civil penalties and injunctive relief for violations of the Clean Water Act, 33 U.S.C. 1251 et seq., in connection with the City of Jeffersonville's operation of its municipal wastewater and sewer system. The United States' and State of Indiana's Complaint alleges that Jeffersonville violated the Clean Water Act and Indiana law by: (1) Discharging untreated waste water from Jeffersonville's combined sewer system in a manner which violates the terms of the Clean Water Act and Indiana law; (2) discharging untreated waste water from Jeffersonville's separate sanitary sewer system in violation of the Clean Water Act and Indiana law; and (3) discharging pollutants from the final effluent of the Jeffersonville Wastewater Treatment Plant at levels exceeding pollutant limits set by the Clean Water Act and Indiana law.

Under the proposed Decree, the City will be required to remedy the deficiencies in the capacity, operation and maintenance of Jeffersonville's WWTP, combined sewer system, and sanitary sewer system at an approximate cost of $100-150 million. Jeffersonville must make these improvements by calendar year 2020 or, if Jeffersonville demonstrates a lack of financial capability, by calendar year 2025. In addition, the proposed Decree requires Jeffersonville to pay the United States a civil penalty of $49,500 and the State of Indiana a civil penalty of $8,250, and spend at least $248,050 to build two constructed wetlands at an industrial site in the City of Jeffersonville and to improve stormwater drainage at a local park.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States and State of Indiana v. City of Jeffersonville, Indiana, D.J. Ref. 90-5-1-1-08723.

The proposed Consent Decree may be examined at the Office of the United States Attorney, Southern District of Indiana, 10 W. Market Street, Suite 2100, Indianapolis, IN 46204 (contact Assistant United States Attorney Tom Kieper (317/226-6333)), and at U.S. Environmental Protection Agency, Region 5, 77 West Jackson Boulevard, Chicago, IL 60604-3590 (contact Associate Regional Counsel John Tielsch (312/353-7447)). During the public comment period, the proposed Consent Decree, may also be examined on the following Department of Justice Web site, to http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $ 22.00 (25 cents per page reproduction cost) payable to the U.S. Treasury or, if by e-mail or fax, forward a check in that amount to the Consent Decree Library at the stated address.

Maureen M. Katz,
Assistant Section Chief, Environmental Enforcement Section, Environment and Natural Resources Division.

[FR Doc. E9-22905 Filed 9-22-09; 8:45 am]

BILLING CODE 4410-15-P